DEPARTMENT OF ENERGY

Conveyance and Transfer of Certain Land Tracts Administered by the Department of Energy and Located at Los Alamos National Laboratory, Los Alamos and Santa Fe Counties, NM

AGENCY: National Nuclear Security Administration, Department of Energy.

ACTION: Amended record of decision.

SUMMARY: The U.S. Department of Energy's National Nuclear Security Administration (DOE/NNSA) is amending the Record of Decision (ROD) for the Environmental Impact Statement for the Conveyance and Transfer of Certain Land Tracts Administered by the Department of Energy and Located at Los Alamos National Laboratory, Los Alamos and Santa Fe Counties, New Mexico, DOE/EIS-0293 (Conveyance and Transfer EIS) to reflect changes in the need to retain certain portions of land tracts withheld earlier due to potential national security mission requirements for health and safety buffer areas relating to on-going and future operations. Specifically, DOE/NNSA has reassessed its need for certain portions of tracts to serve as health and safety buffer areas after: (1) Ceasing its tritium activities at Los Alamos National Laboratory's (LANL's) Technical Area 21 (TA-21); and (2) further refinement of its contemplated proton radiograph project at TAs -53 and -72. DOE/NNSA would no longer need to retain an 8-acre portion located at the western end of the Airport Tract for this purpose. Additionally, two portions of the White Rock Y Tract comprising about 74 acres of highway easement are no longer required as health and safety buffer areas.

FOR FURTHER INFORMATION CONTACT: For further information concerning the conveyance or transfer of land tracts or this amended ROD, contact Elizabeth Withers, NEPA Compliance Officer, Office of Los Alamos Site Operations, National Nuclear Security Administration, 528 35th Street, Los Alamos, NM 87004, 505-667-8690.

For further information concerning DOE's National Environmental Policy Act (NEPA) process, contact: Ms. Carol Borgstrom, Director, Office of NEPA Policy and Compliance (EH-42), U.S. Department of Energy, 1000 Independence Avenue, SW., Washington, DC 20585, Telephone (202) 586-4600, or leave a message at 1-800-472-2756.

Additional information regarding the DOE NEPA process and activities is also available on the Internet through the NEPA home page at http://tis.eh.doe.gov/nepa.

SUPPLEMENTARY INFORMATION:

I. Background

A. Legal Requirements for Action

LANL is one of several national security laboratories that supports DOE/NNSA's responsibilities for national security, energy resources, environmental quality, and science. Located in north-central New Mexico, LANL is about 60 miles (97 kilometers) north-northeast of Albuquerque, and about 25 miles (40 kilometers) northwest of Santa Fe. The small communities of Los Alamos townsite, White Rock, Pajarito Acres, the Royal Crest Mobile Home Park, and San Ildefonso Pueblo are located in the immediate vicinity of LANL. LANL occupies an area of approximately 27,832 acres (11,272 hectares), or approximately 43 square miles (111 square kilometers). DOE also has administrative control over other properties and land within Los Alamos County that total about 915 acres (371 hectares).

On November 26, 1997, Congress passed Public Law 105-119, the Departments of Commerce, Justice, and State, the Judiciary, and Related Agencies Appropriations Act, Fiscal Year 1998 (“the Act”). Section 632 of the Act (42 U.S.C. 2391) directs the Secretary of Energy (the Secretary) to convey to the Incorporated County of Los Alamos, New Mexico, or to the designee of the County, and transfer to the Department of the Interior, in trust for the San Ildefonso Pueblo, parcels of land under the jurisdictional administrative control of the Secretary at or in the vicinity of LANL. Such parcels, or tracts, of land must meet suitability criteria established by the Act. The purpose of the conveyances and transfers is to fulfill the obligations of the United States with respect to Los Alamos, New Mexico, under sections 91 and 94 of the Atomic Energy Community Act of 1955 (AECA) (42 U.S.C. 2391, 2394). Upon the completion of the conveyance or transfer, the Secretary of Energy shall make no further financial assistance payments with respect to LANL under the AECA.

The Act sets forth the criteria, processes, and dates by which the tracts will be selected, titles to the tracts reviewed, environmental issues evaluated, and decisions made as to the allocation of the tracts between the two recipients. DOE's responsibilities under the Act include identifying potentially suitable tracts of land according to criteria set forth in the law (Land Transfer Report, April 1998); conducting a title search on each tract of land (Title Report, September 1998); identifying any environmental restoration and remediation that would be needed for each tract of land (Environmental Restoration Report, August 1999); conducting National Environmental Policy Act of 1969 (NEPA) review of the proposed conveyance or transfer of the land tracts (the Conveyance and Transfer EIS, October 1999, distributed in January 2000); reporting to Congress on the results of the Environmental Restoration Report review and the final Conveyance and Transfer EIS (Combined Data Report, January 2000); and preparing a plan for conveying or transferring land according to the allocation agreement of parcels for Congress (Conveyance and Transfer Plan, April 2000). The Act further states that the Secretary must, to the maximum extent practicable, conduct any needed environmental restoration or remediation activities within 10 years of enactment (by November 26, 2007), and convey and transfer the tracts meeting the suitability criteria. Under the Act, DOE had no role in the designation of recipients nor how the parcels of land will be allocated between the recipients. As specified in Public Law 105-119, the actual disposition of each tract, or portion of a tract, would be subject to DOE's need for the individual tract, or a portion of the tract, to meet a national security mission support function, which could range from either direct or indirect activity involvement. Additionally, the disposition of each tract, or portion of a tract, would be subject to DOE's completion of any necessary environmental restoration or remediation required.

B. Previous Decision on the Conveyance and Transfer Actions

In the ROD for the Conveyance and Transfer EIS (65 FR, Number 54, Page 14952, March 20, 2000), DOE stated its decision to convey and transfer each of the ten subject tracts, either in whole or in part, by November 26, 2007. DOE's decision, consistent with the Preferred Alternative analyzed in the Conveyance and Transfer EIS, was to convey or transfer seven tracts in whole and three tracts (the Airport, TA-21 and White Rock Y Tracts) in part.

Two of the tracts, the Airport Tract and the White Rock Y Tract, would be partially transferred because of potential national security mission needs identified by DOE prior to the issuance of the ROD that require the retention of portions of these tracts. While both of the suitability criteria were considered in the formulation of the Preferred Alternative, the national security mission support criteria led DOE to the recognition that portions of the White Rock Y and the Airport Tracts may not be available for conveyance or transfer within the 10-year period specified by Public Law 105-119. This is due to operational requirements of existing and potential facilities within TA-21 and at TAs 53 and 72 located nearby, and the need for surrounding areas to be retained as security, health, and safety buffer areas. In the case of the Airport Tract, operational requirements of two existing facilities within TA-21 necessitate the retention of surrounding areas as security, health, and safety buffer areas. Engagement in a future project to construct and operate a proton radiography facility at LANL could result in an expanded security, health, and safety buffer area(s) being required that may intrude upon one or more of the tracts under consideration for disposal. Because the White Rock Y Tract is the nearest subject tract to one of the LANL locations that will likely be evaluated for the proton radiography project, DOE reduced this tract to a partial status for disposition in the 2000 ROD. In the ROD, DOE stated its intention to evaluate these existing and future projects and facility operational needs to determine whether to continue to retain portions of these two tracts. DOE stated in the ROD that it would make every effort to minimize the portions of the tracts it retains and only retain essential areas and convey or transfer the remainder of the tracts.

The Airport Tract consists of about 205 acres (83 hectares). Located east of the Los Alamos townsite, it is close to the East Gate Business Park. The Los Alamos Airport is located on part of the tract, while other portions of the tract are undeveloped. The White Rock Y Tract consists of about 540 acres (219 hectares). It is undeveloped and is portions of the tract are associated with the major transportation routes connecting Los Alamos with northern New Mexico. In January 2000, the two land recipients identified by the Act determined that: (1) The Airport Tract would be conveyed to the Incorporated County of Los Alamos; and, (2) the White Rock Y Tract would be divided between the Incorporated County of Los Alamos and the Secretary of the Interior, in trust for the Pueblo of San Ildefonso, with the highway easement area of that tract to be conveyed to the New Mexico Highway Department as the Incorporated County of Los Alamos's designee.

II. Need To Change the Conveyance and Transfer Portions of Tracts Retained

The original 2000 ROD for the Conveyance and Transfer EIS stated that for the tracts that were conveyed in part, DOE would continue to resolve outstanding national security mission support issues on the remaining portions of the tracts so that conveyance or transfer of those portions could occur before the end of the 2007 deadline stated in the Act. DOE could include deed restrictions, notices, and similar land use controls as deemed appropriate and necessary that are protective of human health and safety to facilitate the transfer of the remaining portions of tracts.

A. Need for Existing Facilities at TA-21

In 2000, TA-21 Tract housed both the Tritium Systems Test Assembly (TSTA) and the Tritium Sciences and Fabrication Facility (TSFF) and both of these facilities were scheduled to continue operation past the year 2007. These two research facilities were identified as being needed for the national security mission and there were no formal plans to relocate them at that time. However, DOE was even then in the early stages of assessing the feasibility of relocating these operations to another facility within LANL. Over the past 24 months, DOE/NNSA has reviewed both its long-term continued need for the TSTA facility and the feasibility of relocating the TSFF tritium operations away from TA-21 to other tritium operations facilities at LANL. DOE/NNSA has concluded that the operation of the TSTA per se is no longer needed long term and may be discontinued. The nuclear material inventory of the TA-21 facilities has been reduced according to these plans. The discontinuance of the TSTA facility operations and removal of the TSFF facility operations, together with removal of TA-21 offices and assorted storage support facilities, would allow the facility and all of TA-21 to be completely decommissioned, decontaminated and demolished. It is unlikely however that all three of these steps in the dismantling of the technical area could occur before 2007. In the near term, however, DOE has determined that about an 8-acre portion of the Airport Tract at the western end of that tract (and situated to the northwest of TA21 and lying south of East Road) that had been retained for the purpose of serving as a health and safety buffer for the TA-21 TSTA and TSFF operations is no longer required for that purpose. This partial tract can now be conveyed.

B. Need for Future Facility at TA-53and TA-72

In a similar fashion, preliminary planning for the advanced proton radiography facility project has proceeded since March 2000. Expectations for operations at such a facility have been refined, as have the needs for siting such a facility within the TA-53 and TA-72 area. This has resulted in the reconsideration of the potential need for retaining two portions of the White Rock Y Tract that contain stretches of public roadways along State Road 502 and State Road 4. The two portions of the tract are located adjacent to the highway interchange area and total about 74 acres; one 54-acre tract portion is located to the west along State Road 502 and one 20-acre tract portion is located to the south along State Road 4. DOE has resolved that these two portions of the White Rock Y Tract are very unlikely to be needed for the purpose of serving as future health and safety buffers as long as provisions are made in the transfer documents to provide for access to the TAs-53 and -72. These portions of the tract can now be conveyed.

III. Amended Decisions

DOE/NNSA is modifying its decision on conveyance and transfer of certain land tracts at LANL as stated in the following paragraphs. Should DOE/NNSA=s no longer need portions of these and other tracts for national security mission support needs, DOE/NNSA will again reassess the retainment of partial tract areas and amend the Record of Decision, as needed.

• The Airport Tract consists of about 205 acres (83 hectares), east of the Los Alamos townsite and near the East Gate Business Park. The Los Alamos Airport is located on the northern part of the tract, while other portions of the tract are undeveloped.

Portions of the Airport Tract will continue to be needed to serve as health and safety buffer areas for the tritium activities while they continue within TA-21. In March 2000, DOE decided to convey or transfer part of the tract, approximately 110 acres North of East Road. With the shutdown of its tritium activities at TA-21, DOE/NNSA will now convey an additional approximately 8-acre portion of the Airport Tract.

• The White Rock Y Tract consists of about 540 acres (219 hectares). It is undeveloped and is associated with the major transportation routes connecting Los Alamos with northern New Mexico. Portions of the White Rock Y Tract may be needed to serve as health and safety buffer areas for proposed LANL activities occurring elsewhere, such as the proposed proton radiography project, in support of the national security mission. In the Conveyance and Transfer EIS discussion of the Preferred Alternative, DOE identified the potential partial transfer of the White Rock Y Tract due to the developing proton radiography project, and the tract was considered as one of the tracts that would be conveyed in whole or in part by 2007. In the March 2000 Record of Decision, DOE decided to convey or transfer only approximately 125 (50 hectares) acres, including the highway exchange and areas east of it, because of the potential national security mission need for the remainder of the tract. At this time, the DOE/NNSA will convey an approximately 54-acre parcel of the White Rock Y Tract comprised of the State Road 502 easement, and an approximately 20-acre parcel of the White Rock Y Tract comprised of the State Road 4 easement, both of which abut the highway exchange and eastern area previously identified for conveyance and transfer.

Issued in Washington, DC, on June 26, 2002.
John Gordon,
Administrator, National Nuclear Security Administration.

[FR Doc. 02-17120 Filed 7-8-02; 8:45 am]

BILLING CODE 6450-01-P